DEPARTMENT OF TRANSPORTATION

Federal Aviation Administration

Public Notice for Waiver of Aeronautical Land-use Assurance Williamson County Regional Airport, Marion, IL

AGENCY: Federal Aviation Administration, DOT.

ACTION: Notice of intent of waiver with respect to land.

SUMMARY: The Federal Aviation Administration (FAA) is giving notice that the Illinois Department of Transportation, Division of Highways, is requesting a portion of the airport (3.349 acres, a portion of Area A and Tract 13) as “right-of-way” for the improvement along Route 13 and at the intersection of Route 13 and Route 148. The above-mentioned land is not needed for aeronautical use, as shown on the Airport Layout Plan. There are no impacts to the airport by allowing the airport to dispose of the property. Area A was purchased without federal funds in 1946 and Tract 13 was purchased in 1957 through Grant 9-11-0066105. In accordance with section 47107(h) of title 49, United States Code, this notice is required to be published in the Federal Register 30 days before modifying the land-use assurance that requires the property to be used for an aeronautical purpose. The release of the land in fee simple title, to Illinois Department of Transportation will be used as right-of-way along Route 13 and at the intersection of Route 13 and Route 148.

DATES: Effective Date: The FAA intends to authorize the airport to dispose of the subject airport property 30 days from the date of this Federal Register notice.

FOR FURTHER INFORMATION CONTACT: Gary D. Wilson, Program Manager, 2300 E. Devon Avenue, Des Plaines, IL 60018. Telephone Number 847-294-7631/FAX Number 847-294-7046. Documents reflecting this FAP action may be reviewed at this same location or at Williamson County Regional Airport, Marion, Illinois.

SUPPLEMENTARY INFORMATION: Following is a legal description of the property located in Williamson County, Marion, Illinois, and describes as follows:

Description of Parcels Area A and Tract 13 Being Released (3.349 acres)

The south half (S ½) of the Southwest Quarter (SW ¼) of the Southwest Quarter (SW ¼) of Section eight (8), Township nine (9) South, Range two (2) East of the third Principal Meridian, situated in the County of Williamson, in the State of Illinois.

The North half of the Southwest fourth of the Southwest Quarter of Section eight (8), Township Nine (9) South, Range two (2) East of the third Principal Meridian, except three (3) acres lying in the Northwest corner thereof, said exception being more particularly described as follows: Beginning at the Northwest corner of the above described North half of the Southwest fourth of the Southwest quarter of Section eight (8), Township nine (9) South, Range two (2) East of the third Principal Meridian, thence running East four hundred twenty (420) feet; thence South Three Hundred Fifteen (315) feet; thence West four hundred twenty (420) feet; thence North three hundred fifteen (315) feet to the place of beginning, situated in the County of Williamson, in the State of Illinois.

And

The Southwest Quarter (SW ¼) of the Southeast Quarter (SE ¼) of Section eight (8), Township Nine (9) South, Range two (2) East of the third Principal Meridian, situated in the County of Williamson, in the State of Illinois.

And

That certain frontage road of 50 foot width running through the Williamson County Airport Authority Business Park as shown by a survey recorded October 1, 1986 at Misc. book 184, page 616, Williamson County, Illinois, situated in the County of Williamson and State of Illinois.

And

Lots 1, 3, 4, 5 and 9 in Williamson County Airport Business Park, as shown by a Survey Recorded October 1, 1986 at Misc. Book 184, page 616, in Williamson County, Illinois, situated in the County of Williamson and the State of Illinois.

Approval does not constitute a commitment by the FAA to financially assist in the sale of the subject airport property nor a determination that all measures covered by the program are eligible for grant-in-aid funding from the FAA. The disposition of proceeds from the sale of the airport property will be in accordance FAA's Policy and Procedures Concerning the Use of Airport Revenue, published in the Federal Register on February 16, 1999.

Issued in Des Plaines, Illinois on August 18, 2010.
Chad Oliver,
Acting Manager, Chicago Airports District Office FAA, Great Lakes Region.

[FR Doc. 2010-21922 Filed 9-2-10; 8:45 am]

BILLING CODE 4910-13-M